DEPARTMENT OF THE INTERIOR

National Park Service

National Register of Historic Places; Notification of Pending Nominations and Related Actions

Nominations for the following properties being considered for listing or related actions in the National Register were received by the National Park Service before February 13, 2010. Pursuant to section 60.13 of 36 CFR Part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington, DC 20005; or by fax, 202-371-6447. Written or faxed comments should be submitted by March 10, 2010.

J. Paul Loether,
Chief, National Register of Historic Places/National Historic Landmarks Program.

MASSACHUSETTS

Suffolk County

Winthrop Center/Metcalf Square Historic District, roughly bounded by Lincoln, Winthrop Sts., Winthrop Cemetery, Buchanan, Fremont, Pauline, Hermon and Belcher Sts., Winthrop, 10000098

NEW YORK

Columbia County

Rowe-Lant Farm, 983 NY Rte. 295, East Chatham, 10000099

Livingston County

Sweet Briar, 5126 Mount Morris Rd., Geneseo, 10000104

Monroe County

First Baptist Church of Mumford, 5 Dakin St., Mumford, 10000100

Onondaga County

Walsh-Havemeyer House, Plympton House, New Windsor, 10000101

Oswego County

Brosemer Brewery (Oswego, Oswego County, New York), 472 W. First St., Oswego, 10000102

Mexico Stone Store, The, (Mexico MPS) 3201 Main St., Mexico, 10000103

Oswego Yacht Club (Oswego, Oswego County, New York), 41 Lake St., Oswego, 10000105

VIRGINIA

Arlington County

Buckingham Historic District (Boundary Increase) (Garden Apartments, Apartment Houses and Apartment Complexes in Arlington County, Virginia MPS), Bounded by and including N. Thomas St., 4th St. N., N. Pershing Dr., and N. George Mason Dr., N/A, 10000092

Danville Independent City Dan River Mill No. 8, 424 Memorial Dr., Danville, 10000095

Loudoun County

Hillsboro Historic District (Updated Nomination and Boundary Increase), Charles Town Pk., between Hillsboro Rd. and Stony Pt. Rd., Hillsboro, 10000091

Mathews County

Sibley's and James Store Historic District, 239 Main St. (Main and Maple Sts.), Mathews, 10000093

Nottoway County

Millbrook, 1204 Snead Spring Rd., Crewe, 10000094

Smyth County

Saltville Battlefields Historic District, SR 91, SR 107, CR 632, Saltville, 10000096

Staunton Independent City

Western State Hospital (Boundary Increase), 301 Greenville Ave., Staunton, 10000097

Request for Boundary Decrease has been made for the following resource:

VIRGINIA

Chesterfield County

Beach Station (Boundary Decrease), 11410 and 11400 Beach Road, Chesterfield, 08000067

Request for REMOVAL has been made for the following resource:

PENNSYLVANIA

Chester County

Chandler Mill Bridge, Kennett Township, Kennett, 09001213

[FR Doc. 2010-3554 Filed 2-22-10; 8:45 am]

BILLING CODE 4312-51-P